DEPARTMENT OF THE INTERIOR

National Park Service

National Preservation Technology and Training Board—National Center for Preservation Technology and Training: Meeting

AGENCY: National Park Service, U.S. Department of the Interior.

ACTION: Notice.

SUMMARY: Notice is hereby given in accordance with the Federal Advisory Committee Act (FACA) (5 U.S.C. Appendix (1988)), that the Preservation Technology and Training Board (Board) of the National Center for Preservation Technology and Training (NCPTT), National Park Service will meet on Tuesday and Wednesday, April 15-16, 2008, in Natchitoches, Louisiana.

The Board was established by Congress to provide leadership, policy advice, and professional oversight to the National Park Service's National Center for Preservation Technology and Training (National Center) in compliance with section 404 of the National Historic Preservation Act of 1966, as amended, (16 U.S.C. 470x-2(e)).

The Board will meet at Lee H. Nelson Hall, the headquarters of NCPTT, at 645 University Parkway, Natchitoches, LA 71457—telephone (318) 356-7444. The meeting will run from 9 a.m. to 5 p.m. on April 15 and from 9 a.m. to 12 p.m. on April 16.

The Board's meeting agenda will include: review and comment on National Center FY2007 accomplishments and operational priorities for FY2008; FY2008 and FY2009 National Center budget and initiatives; proposed Conference on Sustainability in Preservation; revitalization of the Center's Friends group, and Board workgroup reports.

The Board meeting is open to the public. Facilities and space for accommodating members of the public are limited, however, and persons will be accommodated on a first come, first served basis. Any member of the public may file a written statement concerning any of the matters to be discussed by the Board.

Persons wishing more information concerning this meeting, or who wish to submit written statements, may contact: Mr. Kirk A. Cordell, Executive Director, National Center for Preservation Technology and Training, National Park Service, U.S. Department of the Interior, 645 University Parkway, Natchitoches, LA 71457—telephone (318) 356-7444. In addition to U.S. Mail or commercial delivery, written comments may be sent by fax to Mr. Cordell at (318) 356-9119.

Minutes of the meeting will be available for public inspection no later than 90 days after the meeting at the office of the Executive Director, National Center for Preservation Technology and Training, National Park Service, U.S. Department of the Interior, 645 University Parkway, Natchitoches, LA 71457—telephone (318) 356-7444.

Dated: January 23, 2008.
Kirk A. Cordell,
Executive Director, National Center for Preservation Technology and Training, National Park Service.

[FR Doc. E8-3609 Filed 2-25-08; 8:45 am]

BILLING CODE 4312-53-P